DEPARTMENT OF COMMERCE

International Trade Administration

Notice of Scope Rulings

AGENCY: Import Administration, International Trade Administration, Department of Commerce.

ACTION: Notice of Scope Rulings and Anticircumvention Inquiries.

EFFECTIVE DATE: August 29, 2000.

SUMMARY: The Department of Commerce (the Department) hereby publishes a list of scope rulings completed between April 1, 2000 and June 30, 2000. In conjunction with this list, the Department is also publishing a list of requests for scope determinations pending as of June 30, 2000. We intend to publish future lists within 30 days of the end of the next calendar quarter.

FOR FURTHER INFORMATION CONTACT: Jonathan Lyons or Robert James, Import Administration, International Trade Administration, U.S. Department of Commerce, 14th Street and Constitution Avenue NW, Washington, DC 20230; telephone (202) 482-0374 or (202) 482-0649.

Background

The Department's regulations provide that, on a quarterly basis, the Secretary will publish in the Federal Register a list of scope rulings completed within the last three months. See 19 CFR 351.225(o). Our most recent “Notice of Scope Rulings” published on July 7, 2000. See 65 FR at 41957.

This notice covers all scope rulings and anticircumvention determinations completed by Import Administration between April 1, 2000 and June 30, 2000, inclusive. It also lists any scope or anticircumvention inquiries pending as of June 30, 2000. The Department intends to publish in October 2000 a list of all completed and pending scope and anticircumvention inquiries for the period July 1, 2000 through September 30, 2000; subsequent lists will follow in the month after the close of each calendar quarter.

Scope Rulings Completed Between April 1, 2000 and June 30, 2000

Japan

A-588-804 Antifriction Bearings (Other Than Tapered Roller Bearings) and Parts Thereof; NTN Bearing Corporation of America; “EM coupling” and ring plates used in scroll compressors for automotive air conditioners are outside the scope; May 1, 2000.

A-588-804 Antifriction Bearings (Other Than Tapered Roller Bearings) and Parts Thereof and Cylindrical Roller Bearings and Parts Thereof; Subaru-Isuzu Automotive, Inc. (SIA); fan bracket assembly, identified as Isuzu part number 8971486750 (prior to October 1, 1999) and 8972317180 (as of October 1, 1999) is outside the scope of either order; May 26, 2000.

People's Republic of China

A-570-504 Petroleum Wax Candles; American Greetings Corporation; tapers with “Valentine heart,” “teddy-bear,” snowflake, “Easter flowers,” acorns-and-leaves, and “Indian corn” figurines are all within the scope, taper with snowman-shaped base is within the scope, pillars with snowflake or gold star decorations are within the scope, and taper shaped to resemble Indian corn is within the scope; May 4, 2000.

A-570-504 Petroleum Wax Candles; Endar Corporation; votive candle with silver studs, three models of “Chinese Lantern” candles, and red and white “Candy Cane Floater” candle are within the scope; May 11, 2000.

A-570-851 Certain Preserved Mushrooms; Wei Mei Food Industry Co., Ltd., Tak Fat Co., Leung Mi International, Tak Yeun Corp., and Genex International Corp.; marinated or acidified mushrooms with an acetic acid content under 0.5 percent are within the scope; June 19, 2000.

Taiwan

A-583-827 Static Random Access Memory Semiconductors from Taiwan; Pacesetter, Inc.; platform B digital integrated circuit and symmetry controllers are not within the scope; June 9, 2000.

Anticircumvention Determinations Completed Between April 1, 2000 and June 30, 2000

None.

Scope Inquiries Terminated Between April 1, 2000 and June 30, 2000

None.

Anticircumvention Inquiries Terminated Between April 1, 2000 and June 30, 2000

None.

Scope Inquiries Pending as of June 30, 2000

Germany

A-428-821 Large Newspaper Printing Presses and Components Thereof, Whether Assembled or Unassembled (LNPP); KBA North America, Inc., Web Press Division; various LNPP parts or subcomponents imported for the production of an LNPP system sold to Dayton Newspapers, Inc. were found preliminarily to be outside the scope on December 22, 1997, and January 27, June 17, and August 4, 1998. Final rulings pending.

A-428-821 Large Newspaper Printing Presses and Components Thereof, Whether Assembled or Unassembled (LNPP); KBA North America, Inc., Web Press Division; various LNPP parts or subcomponents imported for the production of an LNPP system sold to Fayetteville Publishing Company were found preliminarily to be outside the scope on December 30, 1998, and January 14 and February 1, 1999. Final rulings pending.

A-428-821 Large Newspaper Printing Presses and Components Thereof, Whether Assembled or Unassembled (LNPP); KBA North America, Inc., Web Press Division; whether parts or subcomponents for the production of reel tension pasters of an LNPP system and an extension to that system sold to the Austin American-Statesman are covered by the scope of the order. Requested June 14, 2000.

India

A-533-808 Certain Stainless Steel Wire Rod; Ishar Bright Steel, Ltd.; whether stainless steel bar produced in the United Arab Emirates from stainless steel wire rod from India is within the scope. Requested December 22, 1998.

Italy

A-475-059 Pressure Sensitive Plastic Tape; CCL Industries, LLC, d.b.a. CST Special Tapes; whether “surface protection tape” is covered by the scope of the order. Requested January 28, 2000.

A-475-820, C-475-821 Stainless Steel Wire Rod; Ishar Bright Steel, Ltd.; whether stainless steel bar produced in the United Arab Emirates from stainless steel wire rod imported from Italy is within the scope. Requested December 22, 1998.

Japan

A-588-804 Antifriction Bearings (Other Than Tapered Roller Bearings) and Parts Thereof; NTN Corporation of America; whether certain ball rolling elements used in scroll compressors for automotive air conditioners are antifriction bearing parts covered by the order. Requested March 16, 2000.

A-588-807 Industrial Belts and Components and Parts Thereof, Whether Cured or Uncured; International Business Machines; whether two models of belts imported by IBM for use in the IBM 3900 and IBM 4000 Advanced Function Printing Systems are within the scope of the order. Requested January 28, 2000.

A-588-835 Oil Country Tubular Goods; a domestic interested party, whose identity is proprietary information; whether unfinished drill pipe and tool joints, and unfinished drill pipe without tool joints, which are subsequently processed into drill strings in the People's Republic of China are within the scope of the order. Initiated June 16, 2000.

A-588-843 Certain Stainless Steel Wire Rod; Ishar Bright Steel, Ltd.; whether stainless steel bar produced in the United Arab Emirates from stainless steel wire rod imported from Japan is within the scope of the order. Requested December 22, 1998.

People's Republic of China

A-570-504 Petroleum Wax Candles; Endar Corporation; whether a pillar with gold scroll work decoration, a “green Christmas taper,” a “white Christmas taper,” and a “bond cake” candle are within the scope of the order. Requested May 12, 2000.

A-570-803 Heavy Forged Hand Tools; Tianjin Machinery Import/Export Corporation; whether Tianjin's Pulaski Tools are outside the scope of the order. Requested July 23, 1999.

A-570-803 Heavy Forged Hand Tools; SMC Pacific Tools, Inc. and Olympia Industrial Inc.; whether certain pry bars are within the scope. Requested October 27, 1999.

A-570-827 Certain Cased Pencils; Dollar General Corporation; whether two stationery sets with pencils are within the scope. Requested December 22, 1999.

Russian Federation

A-821-802 Antidumping Suspension Agreement on Uranium; USEC, Inc. and its subsidiary, United States Enrichment Corporation; whether enriched uranium located in Kazakhstan at the time of the dissolution of the Soviet Union is within the scope. Requested August 6, 1999.

Spain

A-469-807, C-469-004 Certain Stainless Steel Wire Rod; Ishar Bright Steel, Ltd.; whether stainless steel bar produced in the United Arab Emirates from stainless steel wire rod imported from Spain is within the scope. Requested December 22, 1998.

Taiwan

A-583-828 Certain Stainless Steel Wire Rod; Ishar Bright Steel, Ltd.; whether stainless steel bar produced in the United Arab Emirates from stainless steel wire rod imported from Taiwan is within the scope. Requested December 22, 1998.

Anticircumvention Inquiries Pending as of June 30, 2000

Canada

A-122-823 Cut-to-Length Carbon Steel Plate; Kentucky Electric Steel Company; whether imports of boron-added grader blade and draft key steel, falling within the physical dimensions outlined in the scope of the order, are circumventing the order. Initiated May 28, 1998.¹

¹ The Department was preliminarily enjoined from proceeding with this inquiry in Co-Steel Lasco and Gerdau MRM Steel v. United States, Ct. No. 98-08-02684 (Ct. Int'l Trade); however, on August 11, 2000, the Court of Appeals for the Federal Circuit summarily reversed the injunction and remanded this case to the Court of International Trade with instructions to dismiss the complaint.

Italy

A-475-818 Certain Pasta; Pastificio Fratelli Pagani S.p.A. (Pagani); whether imports of bulk pasta (i.e., greater than five pounds) by Pagani, which are subsequently repackaged in the United States into packages of five pounds or less, are circumventing the order. Initiated April 27, 2000 (see 65 FR at 26179).

Japan

A-588-824 Corrosion-Resistant Carbon Steel Flat Products; USS-Posco Industries; whether imports of boron-added hot-dipped and electrolytic corrosion-resistant carbon steel sheet, falling within the physical dimensions outlined in the scope of the order, are circumventing the order. Initiated October 30, 1998.²

² The Department was preliminarily enjoined from proceeding with this inquiry in Nippon Steel, et. al., v. United States, Ct. No. 98-10-03102 (Ct. Int'l Trade); however, on July 26, 2000, the Court of Appeals for the Federal Circuit issued its decision in Case No. 99-1379, 1386 (Fed. Cir.), remanding this case to the Court of International Trade with instructions for the lower court to dissolve the preliminary injunction and dismiss the complaint.

Interested parties are invited to comment on the completeness of this list of pending scope inquiries. Any comments should be submitted to the Deputy Assistant Secretary for AD/CVD Enforcement Group III, Import Administration, International Trade Administration, 14th Street and Constitution Avenue NW, Room 1870, Washington, DC 20230.

This notice is published in accordance with section 351.225(o) of the Department's regulations.

Dated: August 22, 2000.
Joseph A. Spetrini,
Deputy Assistant Secretary, Enforcement Group III.

[FR Doc. 00-22073 Filed 8-28-00; 8:45 am]

BILLING CODE 3510-DS-P